DEPARTMENT OF HEALTH AND HUMAN SERVICES

Administration for Children and Families

Proposed Information Collection Activity; Comment Request

Proposed Projects

Title: Information Collection Items in the Head Start Performance Standards (current rule).

OMB No.: 0970-0148.

Description: The Head Start Performance Standards are regulations which establish standards for Head Start grantee and delegate agencies to follow to administer quality programs as required by law. Local programs are monitored for compliance with these standards. The information collection aspects of the Performance Standards are one part of the many actions that local agencies must take to ensure they administer quality programs. Almost all these information collections items are record keeping requirements such as recording: nutrition assessment data, family partnership development, and regular volunteer screening for tuberculosis. These records are intended to act as a management tool for grantees to use in their daily operations. Such records are maintained by the grantees and are not information items which must be collected and then forwarded to the Federal government.

Respondents: Head Start grantee and delegate agencies.

Annual Burden Estimates
Instrument | Number of respondents | Number of responses per respondent | Average burden hours per response | Total burden hours
Performance Standards | 2,472 | Once a year | 594 | 1,468,626
Estimated Total Annual Burden Hours: 1,468,626.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW, Washington, DC 20447, Attn: ACF Reports Clearance Officer. All requests should be identified by the title of the information collection.

The Department specifically requests comments on: (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 20, 2000.
Bob Sargis,
Reports Clearance Officer.

[FR Doc. 00-10276 Filed 4-24-00; 8:45 am]

BILLING CODE 4184-01-M